ENVIRONMENTAL PROTECTION AGENCY

40 CFR Part 52

[EPA-R04-OAR-2012-0448; FRL-9791-1]

Approval and Promulgation of Implementation Plans; Georgia; Control Techniques Guidelines and Reasonably Available Control Technology

AGENCY: Environmental Protection Agency (EPA).

ACTION: Correcting amendments.

SUMMARY: On September 28, 2012, EPA published a final rule in the Federal Register approving Georgia State Implementation Plan (SIP) revisions, submitted through the Georgia Environmental Protection Division (GA EPD), related to reasonably available control technology (RACT) requirements. This correcting amendment corrects errors in the non-regulatory Code of Federal Regulations (CFR) language portion of the September 28, 2012, final approval. Specifically, this correction pertains to negative declarations made by GA EPD in its October 21, 2009, SIP submittal for certain source categories for which EPA has issued control technique guidelines (CTG). EPA's September 28, 2012, final rulemaking addressing Georgia's RACT revisions, approved the negative declarations; however, they were inadvertently omitted from the actual CFR non-regulatory language at the end of the final action.

DATES: Effective on March 19, 2013.

FOR FURTHER INFORMATION CONTACT: Jane Spann, Regulatory Development Section, Air Planning Branch, Air, Pesticides and Toxics Management Division, U.S. Environmental Protection Agency, Region 4, 61 Forsyth Street SW., Atlanta, Georgia 30303-8960. Jane Spann may be reached by phone at (404) 562-9029 or by electronic mail address spann.jane@epa.gov.

SUPPLEMENTARY INFORMATION: This action corrects an inadvertent omission in EPA's September 28, 2012, final action approving Georgia's RACT submittals. On October 21, 2009, Georgia submitted a SIP revision containing, among other things, the Atlanta Area RACT SIP. In this RACT submittal Georgia lists CTG source categories for which Georgia has rules or has made negative declarations.¹ On July 31, 2012 (77 FR 45307), EPA proposed approval of Georgia's October 21, 2009, SIP revision, including the negative declarations included therein. In EPA's September 28, 2012, final action (77 FR 59554), EPA approved Georgia's October 21, 2009, submission, including the list of Georgia rules and negative declarations. Towards the end of the September 28, 2012, final action, EPA inadvertently omitted the list of negative declarations in the CFR non-regulatory language. Today's correcting amendment will correct the CFR non-regulatory language to include the following information. Georgia made negative declarations in its October 21, 2009, SIP submittal related to the following CTG source categories:

¹ If no major sources of volatile organic compounds (VOC) or nitrous oxides emissions (each pollutant should be considered separately) in a particular source category exist in an applicable nonattainment area, a state may submit a negative declaration for that category.

1. Control of Volatile Organic Compound (VOC) Emissions from Reactor Processes and Distillation Operations in Synthetic Organic Chemical Manufacturing Industry (SOCMI) EPA-450/4-91-031, August 1993.

2. Control of VOC Emissions from Equipment Leaks from Natural Gas/Gasoline Processing Plants EPA-450/3-83-007, December 1983.

3. Control of VOC Leaks from Synthetic Organic Chemical Polymer and Resin Manufacturing Equipment EPA-450/3-83-006, March 1984.

4. Control of VOC Emissions from Air Oxidation Processes in SOCMI, EPA-450/3-84-015, December 1984.

EPA has determined that today's correcting action falls under the “good cause” exemption in section 553(b)(3)(B) of the Administrative Procedure Act (APA) which, upon finding “good cause,” authorizes agencies to dispense with public participation where public notice and comment procedures are impracticable, unnecessary, or contrary to the public interest. Public notice and comment for this action is unnecessary because today's action simply makes a correction to a previous inadvertent omission in the non-regulatory text of the CFR. EPA previously provided for public notice and comment on the substantive SIP revision approval. In addition, EPA does not believe the public would be interested in commenting on the correction prior to this action being finalized, since this correction action does not change the conclusion of EPA's analysis or action addressing approval of the Georgia RACT rules.

EPA also finds that there is good cause under APA section 553(d)(3) for this correction to become effective on the date of publication of this action. Section 553(d)(3) of the APA allows an effective date less than 30 days after publication “as otherwise provided by the agency for good cause found and published with the rule.” 5 U.S.C. 553(d)(3). The purpose of the 30-day waiting period prescribed in APA section 553(d)(3) is to give affected parties a reasonable time to adjust their behavior and prepare before the final rule takes effect. Today's rule, however, does not create any new regulatory requirements such that affected parties would need time to prepare before the rule takes effect. Rather, today's action simply corrects an inadvertent omission in the CFR of a small portion of a SIP revision that EPA previously substantively approved. For these reasons, EPA finds good cause under APA section 553(d)(3) for this correction to become effective on the date of publication of this action.

Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely explicitly lists the CTG source categories for which Georgia made a negative declaration, is consistent with the substantive revisions to the Georgia SIP described in the final approval of the Georgia RACT SIP revisions and imposes no additional requirements beyond those imposed by state law. Accordingly, the Administrator certifies that this rule will not have a significant economic impact on a substantial number of small entities under the Regulatory Flexibility Act (5 U.S.C. 601 et seq.). Because this rule merely corrects an inadvertent omission for the non-regulatory text of EPA's September 28, 2012, final rule addressing the approval of the Georgia's RACT SIP, and does not impose any additional enforceable duty beyond that required by state law, it does not contain any unfunded mandate or significantly or uniquely affect small governments, as described in the Unfunded Mandates Reform Act of 1995 (Public Law 104-4).

This rule also does not have tribal implications because it will not have a substantial direct effect on one or more Indian tribes, on the relationship between the federal Government and Indian tribes, or on the distribution of power and responsibilities between the federal Government and Indian tribes, as specified by Executive Order 13175 (65 FR 67249, November 9, 2000). This rule also does not have Federalism implications because it does not have substantial direct effects on the states, on the relationship between the national government and the states, or on the distribution of power and responsibilities among the various levels of government, as specified in Executive Order 13132 (64 FR 43255, August 10, 1999). This rule merely corrects an inadvertent omission for the non-regulatory text of EPA's September 28, 2012, final rule addressing the approval of the Georgia RACT SIP, and does not alter the relationship or the distribution of power and responsibilities established in the CAA. This rule also is not subject to Executive Order 13045 “Protection of Children from Environmental Health Risks and Safety Risks” (62 FR 19885, April 23, 1997), because it is not economically significant. In addition, this rule does not involve technical standards, thus the requirements of section 12(d) of the National Technology Transfer and Advancement Act of 1995 (15 U.S.C. 272 note) do not apply. This rule also does not impose an information collection burden under the provisions of the Paperwork Reduction Act of 1995 (44 U.S.C. 3501 et seq.).

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

List of Subjects in 40 CFR Part 52

Environmental protection, Air pollution control, Incorporation by reference, Intergovernmental relations, Nitrogen dioxide, Ozone, Reporting and recordkeeping requirements, Volatile organic compounds.

Dated: March 7, 2013.
A. Stanley Meiburg,
Acting Regional Administrator, Region 4.

40 CFR part 52 is amended as follows:

PART 52—[AMENDED]

1. The authority citation for part 52 continues to read as follows:

Authority: 42 U.S.C. 7401 et seq.

Subpart L—Georgia

2. Section 52.570(e) is amended by adding new entries 38 through 41 to the table in numerical order to read as follows:

§ 52.570 Identification of plan.

* * * * *

(e) * * *

EPA-Approved Georgia Non-Regulatory Provisions
Name of nonregulatory SIP provision | Applicable geographic or nonattainment area | State submittal date/effective date | EPA approval date | Explanation
* * * * * * *
38. Negative Declaration for Control of VOC Emissions from Reactor Processes and Distillation Operations in Synthetic Organic Chemical Manufacturing Industry (SOCMI) EPA-450/4-91-031, August 1993 | Atlanta 1997 8-Hour Ozone Nonattainment Area | 10/21/2009 | 09/28/2013 |
39. Negative Declaration for Control of VOC Emissions from Equipment Leaks from Natural Gas/Gasoline Processing Plants EPA-450/3-83-007, December 1983 | Atlanta 1997 8-Hour Ozone Nonattainment Area | 10/21/2009 | 09/28/2013 |
40. Negative Declaration for Control of VOC Leaks from Synthetic Organic Chemical Polymer and Resin Manufacturing Equipment EPA-450/3-83-006, March 1984 | Atlanta 1997 8-Hour Ozone Nonattainment Area | 10/21/2009 | 09/28/2013 |
41. Negative Declaration for Control of VOC Emissions from Air Oxidation Processes in Synthetic Organic Chemical Manufacturing Industry (SOCMI), EPA-450/3-84-015, December 1984 | Atlanta 1997 8-Hour Ozone Nonattainment Area | 10/21/2009 | 09/28/2013 |

[FR Doc. 2013-06076 Filed 3-18-13; 8:45 am]

BILLING CODE 6560-50-P